ELECTION ASSISTANCE COMMISSION

Election Supporting Technology Evaluation Program Forms; Request for Comment

AGENCY: U.S. Election Assistance Commission.

ACTION: Notice, request for public comment.

SUMMARY: As part of its continuing effort to reduce paperwork burdens, and as required by the Paperwork Reduction Act of 1995 (PRA), the U.S. Election Assistance Commission (EAC) gives notice that it is requesting from the Office of Management and Budget (OMB) approval for the information collection of one Election Supporting Technology Evaluation Program form. The information collected is to be used to improve the quality of election-supporting technology used in Federal elections, and to collect necessary key information on election-supporting technology manufacturers and their systems. Participation in this program is voluntary.

DATES: Comments must be received by 5 p.m. Eastern on Monday, November 13, 2023.

ADDRESSES: Comments on the proposed Testing and Certification forms should be submitted electronically via https://www.regulations.gov (docket IDs: EAC-2023-0002). Written comments on the proposed information collection can also be sent to the U.S. Election Assistance Commission, 633 3rd Street NW, Suite 200, Washington, DC 20001, Attn: Election Supporting Technology Evaluation Program.

FOR FURTHER INFORMATION CONTACT: Elizabeth Beatrice, Election Technology Specialist, Election Supporting Technology Evaluation Program, Washington, DC (202) 748-2298. Email: estep@eac.gov.

All requests and submissions should be identified by the title of the information collection.

SUPPLEMENTARY INFORMATION:

Title and OMB Number: Application for ESTEP Participation, OMB Number Pending.

Purpose: Under the PRA (44 U.S.C. 3501-3520), Federal Agencies must obtain approval from the Office of Management and Budget (OMB) for each collection of information they conduct or sponsor. “Collection of information” is defined in 44 U.S.C. 3502(3) and 5 CFR 1320.3(c) and includes Agency requests or requirements that members of the public submit reports, keep records, or provide information to a third party. Section 3506(c)(2)(A) of the PRA requires Federal agencies to provide a 60-day notice in the Federal Register concerning each proposed collection of information, including each proposed extension of an existing collection of information, before submitting the collection to OMB for approval. To comply with this requirement, the EAC is publishing notice of the proposed collection of information set forth in this document.

The EAC Election Supporting Technology Evaluation Program evaluates the security and accessibility of election-supporting technologies, including electronic poll books, voter registration systems, electronic ballot delivery systems, and election night reporting databases. The program is to publish one form. This is to be used to collect key information concerning election-supporting technology manufacturers and their systems. The application for participation in the Election Supporting Technology Evaluation Program collects administrative information on new or modified election-supporting technology systems that are being submitted for testing by a registered manufacturer.

This information is collected to improve the quality of election-supporting technology used in federal elections.

Public Comments: We are soliciting public comments to permit the EAC to:

• Evaluate whether the proposed information collection is necessary and sufficient for the proper functions of the Election Supporting Technology Evaluation Program.

• Evaluate the accuracy of our estimate of burden for this proposed collection, including the validity of the methodology and assumptions used.

• Enhance the quality, utility, and clarity of information to be collected.

• Minimize the reporting burden on those who are to respond, including the use of automated collection techniques or other forms of information technology.

Please note that comments submitted in response to this Notice are public record. Before including any detailed personal information, you should be aware that your submitted comments, including your personal information, will be available for public review.

Respondents: Election Supporting Technology Manufacturers, State and Local Election Officials.

Annual Reporting Burden

OMB approval is requested for 3 years.

Annual Burden Estimates
Instrument | Estimated number of respondents | Total number of responses per year | Average burden hours per response | Annual burden hours
Application for ESTEP Participation | 10 | 10 | 2 | 20
Total |  | 20 |  | 40

The estimated cost of the annualized cost of this burden is: $3,361.

Camden Kelliher,
Senior Associate Counsel, U.S. Election Assistance Commission.

[FR Doc. 2023-19950 Filed 9-14-23; 8:45 am]

BILLING CODE 4810-71-P